DEPARTMENT OF HEALTH AND HUMAN SERVICES

Solicitation of Written Comments on Draft: National Action Plan To Prevent Healthcare-Associated Infections: Roadmap to Elimination

AGENCY: Department of Health and Human Services, Office of the Assistant Secretary for Health, Office of Healthcare Quality.

ACTION: Notice.

SUMMARY: The Office of Healthcare Quality is soliciting public comment on the revised draft National Action Plan to Prevent Healthcare-Associated Infections: Roadmap to Elimination.

DATES: Comments on the revised draft National Action Plan to Prevent Healthcare-Associated Infections: Roadmap to Elimination should be received no later than 5 p.m. on June 25, 2012. This document reflects a significant update and expansion from the initial version issued in 2009, “HHS Action Plan to Prevent Healthcare-Associated Infections.” It includes new sections specific to infection reduction in ambulatory surgical centers and end-stage renal disease facilities, as well as a new section on increasing influenza vaccination of health care personnel. The Action Plan reflects the work of many offices across the Department of Health and Human Services, Department of Defense, and Department of Veterans Affairs. The plan also reflects input from national experts and stakeholder organizations.

ADDRESSES: The revised draft National Action Plan to Prevent Healthcare-Associated Infections: Roadmap to Elimination can be found at http://www.hhs.gov/ash/initiatives/hai/actionplan/index.html. Comments are preferred electronically and may be addressed to OHQ@hhs.gov. Written responses should be addressed to the Department of Health and Human Services, Office of Healthcare Quality, 200 Independence Ave, SW., Room 711G, Washington, DC 20201, Attention: Draft National HAI AP.

FOR FURTHER INFORMATION CONTACT: Daniel Gallardo, (202) 690-2470 or OHQ@hhs.gov.

SUPPLEMENTARY INFORMATION

I. Background

Healthcare-associated infections, or HAIs, are a serious public health issue; at any given time, about 1 in every 20 patients has an infection related to their hospital care, which cost the U.S. healthcare system billions of dollars each year. For these reasons, the prevention and reduction of healthcare-associated infections is a top priority for the Department of Health and Human Services (HHS). Multiple Operating and Staff Divisions within HHS have been working to reduce the incidence and prevalence of healthcare-associated infections for decades. To further efforts, the HHS Steering Committee for the Prevention of Healthcare-Associated Infections was established in July 2008 and charged with developing a comprehensive strategy to progress toward the elimination of healthcare-associated infections.

In 2009, the Steering Committee issued the initial version of the “HHS Action Plan to Prevent Healthcare-Associated Infections.” The initial strategy (Phase One) focused on the prevention of infections in the acute care hospital setting and includes: a prioritized research agenda; an integrated information systems and technology strategy; policy options for linking payment incentives or disincentives to quality of care and enhancing regulatory oversight of hospitals; and a national messaging plan to raise awareness of HAIs among the hospitals and family caregivers. The Action Plan also delineates specific measures and five-year goals to focus efforts and track national progress in reducing the most prevalent infections. In addition, the plan intended to enhance collaboration with non-government stakeholders and partners at the national, regional, state, and local levels to strengthen coordination and impact of efforts.

Recognizing the need to coordinate prevention efforts across healthcare facilities, HHS began to transition into the second phase (Phase Two) of the Action Plan in late 2009. Phase Two expands efforts outside of the acute care setting into outpatient facilities (e.g., ambulatory surgical centers, end-stage renal disease facilities). The healthcare and public health communities are increasingly challenged to identify, respond to, and prevent healthcare-associated infections across the continuum of settings where healthcare is delivered. The public health model's population-based perspective can be deployed to enhance healthcare-associated infection prevention, particularly given the shifts in healthcare delivery from the acute care (Phase One) to ambulatory (Phase Two) and other settings.

Moreover, healthcare personnel can acquire and transmit influenza from patients or transmit influenza to patients and other health care personnel. Results of several studies indicate that higher vaccination coverage among health care personnel is associated with lower incidence of nosocomial influenza, influenza-like illness, or mortality during influenza season. In addition, the proportion of healthcare-associated cases among hospitalized patients decreases as well, suggesting that increased staff vaccination can contribute to the decline in the number of healthcare-associated influenza cases.

The Steering Committee drafted two strategies or modules that address healthcare-associated infection prevention in ambulatory surgical centers and end-stage renal disease facilities. An additional module addresses influenza vaccination of health care personnel. Similar to its Phase One efforts, Phase Two healthcare-associated infection reduction strategies expect to be executed through research and guideline development, implementation of national quality improvement initiatives at the provider level, and creation of payment policies that promote infection control and reduction in healthcare facilities.

To assist the Steering Committee in obtaining broad input in the development of the three draft modules, HHS, through this request for information (RFI), is seeking comments from stakeholders and the general public on the revised draft National Action Plan to Prevent Healthcare-Associated Infections: Roadmap to Elimination. The revised draft can be found at http://www.hhs.gov/ash/initiatives/hai/actionplan/index.html.

II. Information Request

The Office of Healthcare Quality, on behalf of the HHS Steering Committee for the Prevention of Healthcare-Associated Infections, requests input on the revised draft National Action Plan to Prevent Healthcare-Associated Infections: Roadmap to Elimination.

III. Potential Responders

HHS invites input from a broad range of individuals and organizations that have interests in preventing and reducing healthcare-associated infections. Some examples of these organizations include, but are not limited to the following:

—General public

—Healthcare, professional, and educational organizations/societies

—Caregivers or health system providers (e.g., physicians, physician assistants, nurses, infection preventionists)

—State and local public health agencies

—Public health organizations

—Foundations

—Medicaid- and Medicare-related organizations

—Insurers and business groups

—Collaboratives and consortia.

When responding, please self-identify with any of the above or other categories (include all that apply) and your name. Anonymous submissions will not be considered. The submission of written materials in response to the RFI should not exceed 10 pages, not including appendices and supplemental documents. Responders may submit other forms of electronic materials to demonstrate or exhibit concepts of their written responses, however, we request that comments are identified by Chapter, Section, and page number so they may be addressed accordingly. All comments received before the close of the comment period are available for viewing by the public, including any personally identifiable or confidential business information that is included in a comment.

Dated: April 19, 2012.
Don Wright,
Deputy Assistant Secretary for Health.

[FR Doc. 2012-9868 Filed 4-24-12; 8:45 am]

BILLING CODE 4150-28-P